DEPARTMENT OF HEALTH AND HUMAN SERVICES

National Institutes of Health

National Institute of General Medical Sciences; Cancellation of Meeting

Notice is hereby given of the cancellation of the National Institute of General Medical Sciences Special Emphasis Panel, Review of K99/R00 Applications, July 10, 2025, 10:30 a.m. to July 11, 2025, 6:30 p.m., National Institute of General Medical Sciences, Natcher Building, 45 Center Drive, Bethesda, Maryland 20892 which was published in the Federal Register on March 28, 2025, FR Doc. 2025-05394, 90 FR 14148.

This meeting has been canceled as a result of its transfer from the National Institute of General Medical Sciences (NIGMS) to the Center for Scientific Review (CSR).

Dated: June 10, 2025.
Bruce A. George,
Program Analyst, Office of Federal Advisory Committee Policy.

[FR Doc. 2025-10778 Filed 6-12-25; 8:45 am]

BILLING CODE 4140-01-P